INTERNATIONAL TRADE COMMISSION

[Investigation No. 337-TA-1348]

Certain Cabinet X-Ray and Optical Camera Systems and Components Thereof; Notice of a Commission Determination Not To Review an Initial Determination Terminating the Investigation Based on Consent Order Stipulations; Issuance of Consent Orders; Termination of the Investigation

AGENCY: U.S. International Trade Commission.

ACTION: Notice.

SUMMARY: Notice is hereby given that the U.S. International Trade Commission has determined not to review an initial determination (“ID”) (Order No. 4) of the presiding Chief Administrative Law Judge (“CALJ”) terminating the investigation based on consent order stipulations. The Commission has entered consent orders against respondents CompAI Healthcare (Shenzhen) Co., Ltd., CompAI Healthcare (Suzhou) Co., Ltd., Kangpai Medical Technology (Changchun) Co., Ltd., Kangpai (Beijing) Medical Equipment Co., Ltd., and Dilon Technologies, Inc. The investigation is terminated.

FOR FURTHER INFORMATION CONTACT: Michael Liberman, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On January 3, 2023, the Commission instituted this investigation under section 337 of the Tariff Act of 1930, as amended, 19 U.S.C. 1337, based on a complaint filed by KUB Technologies, Inc. of Stratford, Connecticut. 88 FR 113-14 (Jan. 3, 2023). The complaint alleged a violation of section 337 in the importation into the United States, the sale for importation, or the sale within the United States after importation of certain cabinet x-ray and optical camera systems and components thereof by reason of infringement of certain claims of U.S. Patent No. 10,670,545. Id. at 113. The complaint also alleged the existence of a domestic industry.

The notice of investigation named as respondents the following entities: CompAI Healthcare (Shenzhen) Co., Ltd. of Shenzhen, Guangdong, China (“CompAI Shenzhen”), CompAI Healthcare (Suzhou) Co., Ltd. of Suzhou, Jiangsu, China (“CompAI Suzhou”), Kangpai Medical Technology (Changchun) Co., Ltd. of Suzhou, Jiangsu, China (“Kangpai Changchun”), Kangpai (Beijing) Medical Equipment Co., Ltd. of Suzhou, Jiangsu, China (“Kangpai Beijing”), and Dilon Technologies, Inc. of Newport News, Virginia (“Dilon”) (collectively, “Respondents”). Id. at 114. The Commission's Office of Unfair Import Investigations is not a party to this investigation. Id.

On January 11, 2023, all of the Respondents in this investigation— CompAI Shenzhen, CompAI Suzhou, Kangpai Changchun, Kangpai Beijing, and Dilon—filed a motion to terminate this investigation based on consent orders and a memorandum in support thereof. (“Mot.”). The motion indicates that it is unopposed. See id. at 1.

On January 31, 2023, the CALJ issued the subject ID (Order No. 4) granting the motion. The ID found that the Respondents represent that “there are no other agreements, written or oral, express or implied between the parties concerning the subject matter of the investigation.” ID at 1 (citing Mot. at 2; 19 CFR 210.21(c)).

The ID found that, consistent with Commission Rule 210.21(c)(1)(ii), each of the Respondents provided a consent order stipulation and proposed consent order with the pending motion. Id. at 2-4. With respect to each of the Respondents, the ID found that their respective consent order stipulations and respective proposed consent orders conform with Commission Rules 210.21(c)(3) and 210.21(c)(4), respectively. Id.

Based on the motion papers and the record as a whole, the ID found that any effect the proposed consent orders may have on the statutory public interest factors does not counsel against entry of the order. Id. at 5. In addition, the ID found that termination of the investigation as to the Respondents by consent order will preserve Commission resources and avoid unnecessary litigation. Id.

The Commission has determined not to review the subject ID and to issue consent orders against respondents CompAI Healthcare (Shenzhen) Co., Ltd., CompAI Healthcare (Suzhou) Co., Ltd., Kangpai Medical Technology (Changchun) Co., Ltd., Kangpai (Beijing) Medical Equipment Co., Ltd., and Dilon Technologies, Inc. Accordingly, the investigation is terminated in its entirety.

The Commission vote for this determination took place on February 27, 2023.

The authority for the Commission's determination is contained in section 337 of the Tariff Act of 1930, as amended, 19 U.S.C. 1337, and in Part 210 of the Commission's Rules of Practice and Procedure, 19 CFR part 210.

By order of the Commission.
Issued: February 27, 2023.
Katherine Hiner,
Supervisory Attorney.

[FR Doc. 2023-04356 Filed 3-2-23; 8:45 am]

BILLING CODE 7020-02-P